DEPARTMENT OF COMMERCE

National Telecommunications and Information Administration

Community Broadband Workshop

AGENCY: National Telecommunications and Information Administration, U.S. Department of Commerce.

ACTION: Notice of open meeting.

SUMMARY: The National Telecommunications and Information Administration (NTIA) will hold a one-day regional workshop, “Building a Community Broadband Roadmap: Lessons in Implementation,” to share information to help communities build their broadband capacity and utilization. The workshop will present best practices and lessons learned from network infrastructure build-outs and digital inclusion programs from Minnesota and surrounding states, including broadband projects funded by NTIA. It will also explore effective business and partnership models and will include access to regional policymakers, federal funders and industry providers.

DATES: The Community Broadband Workshop will be held on September 4, 2014, from 9:00 a.m. to 5:00 p.m., Central Time.

ADDRESSES: The meeting will be held in the Hyatt Regency Minneapolis Northstar Ballroom at 1300 Nicollet Mall, Minneapolis, MN 55403.

FOR FURTHER INFORMATION CONTACT: Karen Hanson, National Telecommunications and Information Administration, U.S. Department of Commerce, Room 4628, 1401 Constitution Avenue NW., Washington, DC 20230; telephone: (202) 482-0213; email: khanson@ntia.doc.gov. Please direct media inquiries to NTIA's Office of Public Affairs, (202) 482-7002.

SUPPLEMENTARY INFORMATION: The Community Broadband Workshop—Building a Community Broadband Roadmap: Lessons in Implementation—will include an NTIA presentation that discusses lessons learned through implementation of its broadband grants, and a panel that will explore key elements required for successful broadband projects using a mix of regional examples. Topics will include marketing/demand aggregation, outreach, coordination with government agencies, partnership strategies, construction and oversight. Another panel will examine business model options, including private networks, public/private partnerships, co-ops and municipal systems. The workshop will also include a panel discussion with federal and private funding entities that support investments in broadband infrastructure and adoption. NTIA will provide tips to communities on how to research funding options, make a compelling case to funders and leverage multiple federal and state funding streams.

The workshop will be open to the public and press. Pre-registration is required, and space is limited. Information on how to pre-register for the meeting will be available on NTIA's Web site: www.ntia.doc.gov/workshop. NTIA will ask registrants to provide their first and last names and email addresses for both registration purposes and to receive any updates on the workshop. If capacity for the meeting is reached, NTIA will maintain a waiting list and will inform those on the waiting list if space becomes available.

The public meeting is physically accessible to people with disabilities. Individuals requiring accommodations, such as language interpretation or other ancillary aids, are asked to notify the NTIA contact listed above at least five (5) business days before the meeting.

Meeting updates and relevant documents will be also available on NTIA's Web site at www.ntia.doc.gov/workshop.

Dated: July 30, 2014.
Kathy D. Smith,
Chief Counsel, National Telecommunications and Information Administration.

[FR Doc. 2014-18403 Filed 8-1-14; 8:45 am]

BILLING CODE 3510-60-P